NUCLEAR REGULATORY COMMISSION

Advisory Committee on the Medical Uses of Isotopes: Meeting Notice

AGENCY: U.S. Nuclear Regulatory Commission.

ACTION: Notice of meeting.

SUMMARY: The U.S. Nuclear Regulatory Commission will convene a closed teleconference meeting of the Advisory Committee on the Medical Uses of Isotopes (ACMUI) on February 13, 2006. The topic of discussion will be “License Request for a Physician Seeking Authorized User Status for the Use of Y-90 Microspheres.” NRC staff is seeking the ACMUI's recommendations on this issue.

DATES: The teleconference meeting will be held on Monday, February 13, 2006, from 2 p.m. to 4 p.m eastern standard time.

Public Participation: This meeting will be closed to public to protect the personal privacy information of the individual being discussed.

FOR FURTHER INFORMATION CONTACT: Mohammad Saba, telephone (301) 415-7608; e-mail mss@nrc.gov of the Office of Nuclear Material Safety and Safeguards, U.S. Nuclear Regulatory Commission, Washington, DC 20555-0001.

Conduct of the Meeting

Leon S. Malmud, M.D., will chair the meeting. Dr. Malmud will conduct the meeting in a manner that will facilitate the orderly conduct of business.

This meeting will be held in accordance with the Atomic Energy Act of 1954, as amended (primarily Section 161a); the Federal Advisory Committee Act (5 U.S.C. App); and the Commission's regulations in Title 10, U.S. Code of Federal Regulations, Part 7.

January 24, 2006.
Andrew L. Bates,
Advisory Committee Management Officer.

[FR Doc. E6-1109 Filed 1-27-06; 8:45 am]

BILLING CODE 7590-01-P